COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee has received proposals to add to the Procurement List services to be furnished by nonprofit agencies employing persons who are blind or have other severe disabilities.

DATES: Comments must be received on or before September 5, 2000.

ADDRESS: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Administrative/General Support Services

Department of the Army, Office of the Surgeon General, 5111 Leesburg Pike, Room 538, Falls Church, Virginia, NPA: Columbia Lighthouse for the Blind, Washington, DC

Food Service Attendant

Oceana Naval Air Station, Virginia Beach, Virginia

NPA: Chesapeake Service Systems, Inc., Chesapeake, Virginia

Naval Weapons Station, Yorktown, Virginia, NPA: Association for Retarded Citizens of the Peninsula, Inc., Hampton, Virginia

Janitorial/Custodial

Naval and Marine Corps Reserve Center, 3655 S. Wilmot Road, Tucson, Arizona, NPA: Catholic Community Services of Southern Arizona, Tucson, Arizona

Youth Center (Ch-905), New Submarine Base New London, Groton, Connecticut, NPA: CW Resources, Inc., New Britain, Connecticut

On-Call Janitorial Services for GSA Leased Buildings in New York City

NPAs: Fedcap Rehabilitation Services, Inc., New York, New York, The Corporate Source, Inc., New York, New York, Goodwill Industries of Greater New York and Northern New Jersey, Inc., Astoria, New York

Publication Distribution and Toll Free Info Center

Department of Labor, Wage and Hour Division, Rochester, New York, NPA: Association for the Blind and Visually Impaired & Goodwill Industries of Greater Rochester, Inc., Rochester, New York

Rita L. Wells,
Deputy Executive Director.

[FR Doc. 00-19833 Filed 8-3-00; 8:45 am]

BILLING CODE 6353-01-P